DEPARTMENT OF COMMERCE

International Trade Administration

[Docket No. 011123281-2034-02]

Special American Business Internship Training Program

AGENCY: International Trade Administration, Department of Commerce.

ACTION: Notice of extension of funding availability for grants under the Special American Business Internship Training Program (SABIT).

SUMMARY: The International Trade Administration publishes this notice to extend the closing date for the Special American Business Internship Training Program (SABIT) from March 1, 2002, to April 15, 2002.

DATES: To be considered, applications must be postmarked by April 15, 2002. Processing of complete applications takes approximately three to four months. All awards are expected to be made by August 15, 2002.

ADDRESSES: The SABIT Program, U.S. Department of Commerce, [FCB]—Fourth Floor—4100 W, 1401 Constitution Avenue, NW., Washington, DC 20230.

FOR FURTHER INFORMATION CONTACT: Liesel Duhon, Director, Special American Business Internship Training program, International Trade Administration, U.S. Department of Commerce, phone—(202) 482-0073, facsimile—(202) 482-2443. These are not toll free numbers.

SUPPLEMENTARY INFORMATION: This Notice amends the Federal Register Notice of December 13, 2001 (66 FR 64399-64402) announcing the availability of funds for the Special American Business Internship Training program (SABIT), for training business executives and scientists (also referred to as “interns”) from the Newly Independent States of the former Soviet Union. This notice extends the closing date of the referenced Federal Register notice for six weeks to April 15, 2002. All applications must be postmarked by April 15, 2002. All information in the previous announcement remains current, except for the change of the closing date.

Dated: February 21, 2002.
Liesel C. Duhon,
Director, SABIT Program.

[FR Doc. 02-4547 Filed 2-25-02; 8:45 am]

BILLING CODE 3510-HE-P